DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans), pursuant to 23 U.S.C., and U.S. Fish and Wildlife Service, National Marine Fisheries Service and U.S. Army Corps of Engineers.

SUMMARY: The FHWA, on behalf of Caltrans, is issuing this notice to announce actions taken by Caltrans that are final. The actions relate to a proposed highway project, the State Route 84 Real McCoy Fenders and Ramps Replacement Project at post mile 2.49 in Solano County, State of California. Those actions grant licenses, permits, and approvals for the project.

DATES: A claim seeking judicial review of the Federal agency actions on the highway project will be barred unless the claim is filed on or before January 16, 2023. If the Federal law that authorizes judicial review of a claim provides a time period of less than 150 days for filing such claim, then that shorter time period still applies.

FOR FURTHER INFORMATION CONTACT: For Caltrans: Maxwell Lammert, Environmental Branch Chief, 111 Grand Avenue MS 8B, Oakland, CA 94612, 510-506-9862 (Voice) and email Maxwell.Lammert@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: Caltrans proposes to restore the structural integrity of the fender system and upgrade the boat ramps and ferry deck to improve the Real McCoy Ferry's accessibility across Cache Slough on State Route 84 in Solano County. The Project would replace the Real McCoy Ferry's deteriorating timber fender system with a new steel pile fender system; replace the boat ramps with new concrete approach slab ramps that would accommodate larger vehicles, including commercial and emergency vehicles, and extend the ferry boat deck to improve vehicle access on and off the ferry.

The actions by the Federal agencies, and the laws under which such actions were taken, are described in the Environmental Assessment (EA) and Finding of No Significant Impact (FONSI) for the project, approved on June 27, 2022. The EA, FONSI, and other project records are available by contacting Caltrans at the addresses provided above. The Caltrans EA and FONSI can be viewed and downloaded from the project website at https://dot.ca.gov/caltrans-near-me/district-4/d4-popular-links/d4-environmental-docs, or viewed at the Solano County Library-Rio Vista, 44 S 2nd St, Rio Vista, CA 94571.

This notice applies to all Federal agency decisions as of the issuance date of this notice and all laws under which such actions were taken, including but not limited to:

1. National Environmental Policy Act

2. Federal Clean Air Act

3. Federal-Aid Highway Act

4. Clean Water Act

5. Fixing American's Surface Transportation Act (Fast Act)

6. Archeological and Historic Preservation Act

7. Section 106 of the National Historic Preservation Act

8. Federal Endangered Species Act

9. Migratory Bird and Treaty Act

10. Fish and Wildlife Coordination Act

11. Section 4(f) of the Department of Transportation Act

12. Civil Rights Act, Title VI

13. Farmland Protection Policy Act

14. Uniform Relocation Assistance and Real Property Acquisition Policies Act

15. Rehabilitation Act

16. Comprehensive Environmental Response, Compensation, and Liability Act (CERCLA)

17. Resource Conservation and Recovery Act (RCRA)

18. Safe Drinking Water Act

19. Occupational Safety and Health Act

20. Atomic Energy Act

21. Toxic Substances Control Act

22. Federal Insecticide, Fungicide and Rodenticide Act

23. E.O. 11988 Floodplain Management

24. 29. E.O. 12898, Federal Actions to Address Environmental Justice in Minority Populations and Low Income Populations

25. 30. E.O. 12088, Federal Compliance with Pollution Control Standards

26. 31. Park Preservation Act

27. 32. American with Disabilities Act

28. 33. Historic Sites Act

29. 34. Community Environmental Response Facilitation Act of 1992

30. 35. E.O. 13112, Invasive Species

(Catalog of Federal Domestic Assistance Program Number 20.205, Highway Planning and Construction. The regulations implementing Executive Order 12372 regarding intergovernmental consultation on Federal programs and activities apply to this program.)

Authority: 23 U.S.C. 139(l)(1).

Antonio Johnson,
Director, Planning, Environment and Right of Way, Federal Highway Administration, California Division.

[FR Doc. 2022-17852 Filed 8-18-22; 8:45 am]

BILLING CODE 4910-RY-P